DEPARTMENT OF JUSTICE

Antitrust Division

Notice Pursuant to the National Cooperative Research and Production Act of 1993—New Routes to Ultra-Low-Cost Solar Grade Silicon for Renewable Energy Generation

Notice is hereby given that, on March 14, 2005, pursuant to Section 6(a) of the National Cooperative Research and Production Act of 1993, 15 U.S.C. 4301 et seq. (“the Act”), New Routes to Ultra-Low-Cost Solar Grade Silicon for Renewable Energy Generation (the “Joint Venture”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(a) of the Act, the identities of the parties to the Joint Venture are: Dow Corning Corporation, Midland, MI; GE Energy USA LLC, Newark, DE; and Crystal Systems, Inc., Salem, MA. The general area of the Joint Venture's planned activity is to provide a virtually unlimited commercial supply of solar-grade silicon at unprecedented low prices in a time frame of three years. This new source of silicon will serve as a feedstock for the large-scale manufacture of photovoltaic solar cells. The goal is to deliver silicon supply for the PV industry with a substantial cost reduction versus semiconductor-grade silicon by utilizing metallurgical processes that will purify the cheap raw silicon presently made for the steel, aluminum, and silicone polymer industries. The activities of the Joint Venture project will be partially funded by an award from the Advanced Technology Program, National Institute of Standards and Technology, U.S. Department of Commerce.

Dorothy B. Fountain,
Deputy Director of Operations, Antitrust Division.

[FR Doc. 05-10500 Filed 5-25-05; 8:45 am]

BILLING CODE 4410-11-M